POSTAL SERVICE

39 CFR Part 111

New Mailing Standards for Domestic Mailing Services Products

AGENCY: Postal Service™.

ACTION: Supplemental final rule.

SUMMARY: The Postal Service published in the Federal Register of June 13, 2022, a document revising Mailing Standards of the United States Postal Service, Domestic Mail Manual (DMM®), to reflect changes to prices and mailing standards for certain Mailing Services products. This document clarifies and amends the mailing standards.

DATES: Effective date: July 10, 2022.

FOR FURTHER INFORMATION CONTACT: Doriane Harley at (202) 268-2537 or Dale Kennedy at (202) 268-6592.

SUPPLEMENTARY INFORMATION: The Postal Service published a document in the Federal Register on June 13, 2022, (87 FR 35658-35660), adopting the standards for the July 10, 2022, Mailing Services price change. Under this supplemental final rule, the Postal Service further revises the standards for the Direct Container Discount.

Direct Container Discount for Marketing Mail High Density Plus and Saturation Flats

The Postal Service is offering discounts for USPS Marketing Mail Saturation Flats (including EDDM, not EDDM Retail) and High Density Plus Flats in 5-digit (direct) containers (all pallets regardless of entry, and sacks, and tubs entered at the DDU). Under the standards adopted for the July 10, 2022 Mailing Services price change, the Postal Service offers discounts for Carrier Route Flats and High Density Flats on 5-digit (direct) pallets; these discounts will now extend to Carrier Route Flats and High Density Flats in 5-digit (direct) sacks and tubs entered at the DDU.

The Postal Service adopts the following changes to Mailing Standards of the United States Postal Service, Domestic Mail Manual (DMM), to supplement those adopted at 87 FR 35658 (June 13, 2022), incorporated by reference in the Code of Federal Regulations. See 39 CFR 111.1.

We will publish an appropriate amendment to 39 CFR part 111 to reflect these changes.

List of Subjects in 39 CFR Part 111

Administrative practice and procedure, Postal Service.

Accordingly, 39 CFR part 111, as amended at 87 FR 35658 (June 13, 2022), is further amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

240 Commercial Mail USPS Marketing Mail

243 Prices and Eligibility

* * * * *

6.0 Additional Eligibility Standards for Enhanced Carrier Route USPS Marketing Mail Letters and Flats

* * * * *

6.3 Basic Price Enhanced Carrier Route Standards

* * * * *

[Revise the title and text of 6.3.4; to read as follows:]

6.3.4 Basic Carrier Route Bundles on a 5-Digit/Direct Container (Basic-CR Bundles/Container) Price Eligibility—Flats

The Basic-CR Bundles/Container discount applies to each piece in a carrier route bundle of 10 or more pieces that are palletized under 705.8.0, 705.10.0, 705.12.0, or 705.13.0 on a 5-digit carrier route or 5-digit scheme carrier route pallet entered at an Origin (None), DNDC, DSCF, or DDU entry or palletized under 705.14.0 on a FSS scheme pallet (in a FSS Scheme bundle), or in a Carrier Route sack or tub under 245.9.7.a or 203.5.8 and entered at the DDU.

* * * * *

6.5 High Density and High Density Plus (Enhanced Carrier Route) Standards—Flats

* * * * *

[Revise the title and text of 6.5.3; to read as follows:]

6.5.3 High Density Carrier Route Bundles on a 5-Digit/Direct Container (High Density-CR Bundles/Container Discount Eligibility)—Flats

High Density-CR Bundles/Container discount applies to 125 or more High Density—eligible pieces that are palletized under 705.8.0, 705.10.0, 705.12.0, or 705.13.0 on a 5-digit carrier route, 5-digit carrier routes, or 5-digit scheme carrier route pallet entered at an Origin (None), DNDC, DSCF, or DDU entry, or palletized under 705.14.0 on a FSS scheme pallet (in a FSS scheme bundle), or in a Carrier Route sack or tub under 245.9.7.a or 203.5.8 and entered at the DDU.

[Add new section 6.5.4; to read as follows:]

6.5.4 High Density Plus Carrier Route Bundles on a 5-Digit/Direct Container (High Density Plus-CR Bundles/Container Discount Eligibility)—Flats

High Density Plus-CR Bundles/Container discount applies to 300 or more High Density Plus eligible pieces that are palletized under 705.8.0, 705.10.0, 705.12.0, or 705.13.0 on a 5-digit carrier route, 5-digit carrier routes, or 5-digit scheme carrier route pallet entered at an Origin (None), DNDC, DSCF, or DDU entry, or palletized under 705.14.0 on a FSS scheme pallet (in a FSS scheme bundle) or in a Carrier Route sack or tub under 245.9.7.a or 203.5.8 and entered at the DDU.

* * * * *

6.7 Saturation Enhanced Carrier Route Standards—Flats

* * * * *

[Add new section 6.7.3; to read as follows:]

6.7.3 Saturation—(Including EDDM) Carrier Route Bundles on a 5-Digit/Direct Container (Saturation-CR Bundles/Container Discount Eligibility)—Flats

Saturation-CR Bundles/Container discount applies to at least 90% or more of the active residential addresses or 75% or more of the total number of active possible delivery addresses on each carrier route that are palletized under 705.8.0, 705.10.0, 705.12.0, or 705.13.0 on a 5-digit carrier route, 5-digit carrier routes, or 5-digit scheme carrier route pallet entered at the origin (None), DNDC, DSCF, or DDU entry, or palletized under 705.14.0 on a FSS scheme pallet (in a FSS scheme bundle), or in a Carrier Route sack or tub under 245.9.7.a or 203.5.8 and entered at the DDU.

* * * * *

700 Special Standards

* * * * *

705 Advanced Preparation and Special Postage Payment Systems

* * * * *

8.0 Preparing Pallets

* * * * *

8.6 Pallet Labels

* * * * *

8.6.5 Line 2 (Content Line)

* * * * *

CONTENT TYPE CODE

* * * * *

[Revise Content Type and Code for “High Density” to read as follows:]

High Density/High Density Plus HD/HD+

* * * * *

[Add new line item, alphabetically:]

Saturation SAT

* * * * *

8.10 Pallet Presort and Labeling

* * * * *

8.10.3 USPS Marketing Mail or Parcel Select Lightweight—Bundles, Sacks, or Trays

[Revise the second sentence to read as follows:]

* * * For USPS Marketing Mail High Density and High Density Plus flats price eligibility, only 5-digit pallets under 8.10.3a-c are allowed, and the pallets must be entered under None, DNDC, DSCF or DDU standards. (Use “HD/HD+ DIRECT” for one route and “HD/HD+ CR-RTS” for multiple routes on the line 2 contents description). * * *

[Revise item a2 to read as follows:]

2. Line 2: “STD” followed by “FLTS”; followed by “HD/HD+ DIRECT” for High Density and High Density Plus flats.

* * * * *

[Revise item b2 to read as follows:]

2. Line 2: “STD followed by “FLTS”; followed by “HD/HD+” for High Density and High Density Plus flats; followed by “CARRIER ROUTES” (or “CR-RTS”); followed by “SCHEME” (or “SCH”).

* * * * *

[Revise item c2 to read as follows:]

2. Line 2: For flats and Marketing parcels (Product Samples only), “STD FLTS” or “STD MKTG,” as applicable; followed by “HD/HD+” for High Density and High Density Plus flats pricing eligibility; followed by “CARRIER ROUTES” (or “CR-RTS”). For letters, “STD LTRS”; followed by “CARRIER ROUTES” (or “CR-RTS”); followed by “BC” if the pallet contains barcoded letters; followed by “MACH” if the pallet contains machinable letters; followed by “MAN” if the pallet contains nonmachinable letters.

* * * * *

10.0 Merging Bundles of Flats Using the City State Product

* * * * *

10.2 USPS Marketing Mail

* * * * *

10.2.5 Pallet Preparation and Labeling

* * * * *

[Revise the text in 10.2.5a2; to read as follows:]

2. Line 2: “STD FLTS CR-RTS SCHEME” followed by HD/HD+ if the pallet contains High Density/High Density plus flats.

* * * * *

[Revise the text in 10.2.5b2; to read as follows:]

2. Line 2: “STD FLTS CR/5D SCHEME” followed by HD/HD+ if the pallet contains High Density/High Density plus flats.

* * * * *

[Revise the text in 10.2.5c2; to read as follows:]

2. Line 2: “STD FLTS,” followed by “CARRIER ROUTES” or “CR-RTS” followed by HD/HD+ if the pallet contains High Density/High Density plus flats.

* * * * *

[Revise the text in 10.2.5d2; to read as follows:]

2. Line 2: “STD FLTS CR/5D” followed by HD/HD+ if the pallet contains High Density/High Density plus flats. * * *

* * * * *

12.0 Merging Bundles of Flats on Pallets Using a 5% Threshold

* * * * *

12.2 USPS Marketing Mail

* * * * *

12.2.3 Pallet Preparation and Labeling

* * * * *

[Revise the text in 12.2.3a2; to read as follows:]

2. Line 2: “STD FLTS CR-RTS SCHEME” followed by HD/HD+ if the pallet contains High Density/High Density plus flats.

* * * * *

[Revise the text in 12.2.3b2; to read as follows:]

2. Line 2: “STD FLTS CR/5D SCHEME” followed by HD/HD+ if the pallet contains High Density/High Density plus flats.

* * * * *

[Revise the text in 12.2.3c2; to read as follows:]

2. Line 2: “STD FLTS”; followed by “CARRIER ROUTES” or “CR-RTS” followed by HD/HD+ if the pallet contains High Density/High Density plus flats.

* * * * *

[Revise the text in 12.2.3d2; to read as follows:]

2. Line 2: “STD FLTS CR/5D” followed by HD/HD+ if the pallet contains High Density/High Density plus flats.

* * * * *

13.0 Merging Bundles of Flats on Pallets Using the City State Product and a 5% Threshold

* * * * *

13.2 USPS Marketing Mail

* * * * *

13.2.4 Pallet Preparation and Labeling

* * * * *

[Revise the text in 13.2.4a2; to read as follows:]

2. Line 2: “STD FLTS CR-RTS SCHEME” followed by “HD/HD+” if the pallet contains High Density/High Density plus flats.

* * * * *

[Revise the text in 13.2.4b2; to read as follows:]

2. Line 2: “STD FLTS CR/5D SCHEME” followed by “HD/HD+” if the pallet contains High Density/High Density plus flats.

* * * * *

[Revise the text in 13.2.4c2; to read as follows:]

2. Line 2: “STD FLTS,” followed by HD/HD+ if the pallet contains High Density/High Density plus flats and “CARRIER ROUTES” or “CR-RTS”

* * * * *

[Revise the text in 13.2.4d2; to read as follows:]

2. Line 2: “STD FLTS CR/5D” followed by “HD/HD+” if the pallet contains High Density/High Density plus flats.

* * * * *

Sarah E. Sullivan,
Attorney, Ethics & Legal Compliance.

[FR Doc. 2022-13766 Filed 6-27-22; 11:15 am]

BILLING CODE 7710-12-P